DEPARTMENT OF COMMERCE

Foreign-Trade Zones Board

[Docket 42-2001]

Foreign-Trade Zone 204—Tri-Cities Area (TN/VA); Application for Expansion

An application has been submitted to the Foreign-Trade Zones (FTZ) Board (the Board), by the Tri-Cities Airport Commission, grantee of Foreign-Trade Zone 204, requesting authority to expand its zone in the Tri-Cities area (TN/VA). The Tri-Cities Regional Airport has been designated a Customs user fee facility by the U.S. Customs Service. The application was submitted pursuant to the provisions of the Foreign-Trade Zones Act, as amended (19 U.S.C. 81a-81u), and the regulations of the Board (15 CFR part 400). It was formally filed on October 26, 2001.

FTZ 204 was approved on October 21, 1994 (Board Order 706, 59 FR 54432, 10/31/94). The zone project currently consists of the following sites in the Tri-Cities area: Site 1 (1,040 acres)—Tri-Cities Regional Airport complex, Blountville (Sullivan County), TN; Site 2 (440 acres)—St. John/Eldred Business Park, Johnson City (Washington County), TN; Site 3 (330 acres)—Northeast Tennessee Business Park, adjacent to the Tri-Cities Regional Airport, Kingsport (Sullivan County), TN; Site 4 (129 acres)—Bristol Tennessee Industrial Park, Bristol (Sullivan County), TN; Site 5 (750 acres)—Tri-County Industrial Park, Piney Flats (Sullivan County), TN; Site 6 (206 acres)—Regional Med-Tech Center, Johnson City (Washington County), TN; and, Site 7 (103 acres)—Linden/Hairston Industrial Park, Linden Drive at Bonham Road, Bristol, VA.

The applicant is now requesting authority to expand the general-purpose zone to include two new sites in the Tri-Cities area (Proposed Sites 8 and 9): Proposed Site 8 (3,000 acres)—Holston Business and Technology Park, 4509 West Stone Drive, Kingsport (Hawkins County), TN; and, Proposed Site 9 (134 acres)—Washington County Industrial Park, Cherry Hill Road, Johnson City (Washington County), TN. Proposed Site 8 is part of the Holston Army Ammunitions Plant which is owned by the U.S. Department of the Army and being converted to commercial use. BAE Systems has entered into a facilities use contract with the U.S. Department of Army to manage, maintain, operate and develop the facility for commercial use. BAE's plans include the development of the industrial park described above. Proposed Site 9 is owned by Washington County. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099—14th St., NW., Washington, DC 20005; or

2. Submissions via the U.S. Postal Service: Foreign-Trade Zones Board, U.S. Department of Commerce, FCB—Suite 4100W, 1401 Constitution Ave., NW., Washington, DC 20230.

The closing period for their receipt is January 2, 2002. Rebuttal comments in response to material submitted during the foregoing period may be submitted during the subsequent 15-day period (to January 6, 2002).

A copy of the application and accompanying exhibits will be available for public inspection at the Office of the Foreign-Trade Zones Board's Executive Secretary at the first address listed above, and at the Greater Tri-Cities Foreign-Trade Zone, 2525 Highway 75, Air Cargo Terminal Building, Suite 103, Blountville, TN 37617.

Dated: October 29, 2001.
Dennis Puccinelli,
Executive Secretary.

[FR Doc. 01-27622 Filed 11-1-01; 8:45 am]

BILLING CODE 3510-DS-P